FEDERAL COMMUNICATIONS COMMISSION

Notice of Public Information Collection(s) Being Reviewed by the Federal Communications Commission

November 30, 2001.

Summary: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

Dates: Written comments should be submitted on or before January 7, 2002. If you anticipate that you will be submitting comments, but find it difficult to do so within the period of time allowed by this notice, you should advise the contact listed below as soon as possible.

Addresses: Direct all comments to Judy Boley, Federal Communications Commission, Room 1-C804, 445 12th Street, SW., DC 20554 or via the Internet to jboley@fcc.gov.

For Further Information Contact: For additional information or copies of the information collection(s), contact Judy Boley at 202-418-0214 or via the Internet at jboley@fcc.gov.

Supplementary Information:

OMB Control No.: 3060-0756.

Title: Procedural Requirements and Policies for Commission Processing of BOC Applications for the Provisions of In-Region, InterLATA Services Under Section 271 of the Telecommunications Act of 1996.

Form No.: N/A.

Type of Review: Extension of a currently approved collection.

Respondents: Business or other for-profit; State, Local or Tribal Government.

Number of Respondents: 75.

Estimated Time Per Response: 250.9 hours (average).

Frequency of Response: On occasion reporting requirement.

Total Annual Burden: 18,820 hours.

Total Annual Cost: $0.

Needs and Uses: The Public Notice sets forth procedural requirements and policies relating to the Commission processing of Bell Operating Company (BOC) applications to provide in-region, interLATA services pursuant to section 271 of the Communications Act of 1934, as amended. BOCs must file applications, which provide information on which the applicant intends to rely in order to satisfy the requirement of section 271. State regulatory commission and Department of Justice can file written consultations relating to the applications. Interested third parties may file comments and reply comments regarding the applications. All of the requirements are used to ensure that BOCs have complied with their obligations under Communications Act of 1934, as amended, before being authorized to provide in-region, interLATA services pursuant to section 271.

Federal Communications Commission.
Magalie Roman Salas,
Secretary.

[FR Doc. 01-30245 Filed 12-5-01; 8:45 am]

BILLING CODE 6712-01-P